DEPARTMENT OF THE INTERIOR

Bureau of Land Management

[13X LLIDB00200 LF2200000.JS0000 LFESG40D0000]

Notice of Temporary Closure on Public Lands in Boise County, ID

AGENCY: Bureau of Land Management, Interior.

ACTION: Notice of Temporary Closure

SUMMARY: Notice is hereby given that the Springs Fire closure to all human use is in effect on public lands administered by the Four Rivers Field Office, Bureau of Land Management (BLM).

DATES: The Springs Fire closure will be in effect from April 3, 2013 through June 30, 2013.

FOR FURTHER INFORMATION CONTACT: Terry Humphrey, Four Rivers Field Manager, at 3948 Development Avenue, Boise, Idaho 83705, phone (208) 384-3300. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION: The Springs Fire closure affects public lands surrounding Skinny Dipper Hot Springs, near Banks, Idaho, that burned August 5, 2012. The affected public lands include Lot 3; Section 25, T. 9 N., R.3 E., Boise Meridian, Boise County, Idaho, containing approximately 41 acres. The Springs Fire closure is necessary because there is an increased danger to the recreating public around the hot springs due to fire damage, as a result of the loss of stabilizing vegetation upstream from the hot springs as identified in the Springs Fire Emergency Stabilization and Burned Area Rehabilitation Plan dated August 28, 2012. Rainfall during the spring season (April-June) could result in rock falls, flooding, or debris flows. Reestablishment of vegetation is anticipated to occur during this year's spring growth, which will significantly reduce the safety risk.

The BLM will post closure signs at main access and entry points to the closed area. The closure notices will also be posted in the BLM Boise District office. Maps of the affected areas and other documents associated with these closures are available at the BLM Boise District Office, 3948 Development Avenue, Boise, Idaho 83705 and on the BLM-Idaho Web site: http://www.blm.gov/id/st/en/advisories-closures.html.

The BLM will enforce the following rule within the Springs Fire closure: Human activity is not allowed within the closed area.

Exemptions: The following persons are exempt from this order: Federal, State, and local officers and employees in the performance of their official duties; members of organized rescue or fire-fighting forces in the performance of their official duties; and persons with written authorization from the BLM. The Springs Fire human use closure does not apply to normal highway traffic along the Banks-Lowman Highway.

Penalties: Any person who violates the above rule may be tried before a United States Magistrate and fined, not to exceed $1,000, imprisoned for no more than 12 months, or both. Violators may also be subject to the enhanced fines provided for in 18 U.S.C. 3571.

Authority: 43 CFR 8360.0-7; 43 CFR 8364.1.

Matthew McCoy,
Four Rivers Assistant Field Manager.

[FR Doc. 2013-07761 Filed 4-2-13; 8:45 am]

BILLING CODE 4310-GG-P